DEPARTMENT OF ENERGY

Federal Energy Regulatory Commission

Combined Notice of Filings #2

Take notice that the Commission received the following electric corporate filings:

Docket Numbers: EC12-99-000.

Applicants: Lowell Cogeneration Company Limited Partnership, Power City Partners, L.P.

Description: Application for Authorization for Disposition of Jurisdictional Facilities and Request for Expedited Action of Lowell Cogeneration Company Limited Partnership, et al.

Filed Date: 5/10/12.

Accession Number: 20120510-5075.

Comments Due: 5 p.m. ET 5/31/12.

Take notice that the Commission received the following electric rate filings:

Docket Numbers: ER12-1742-001.

Applicants: International Transmission Company.

Description: Errata Filing to be effective 7/10/2012.

Filed Date: 5/10/12.

Accession Number: 20120510-5064.

Comments Due: 5 p.m. ET 5/31/12.

Docket Numbers: ER12-1755-000.

Applicants: Midwest Independent Transmission System Operator, Inc.

Description: G513 GIA Termination to be effective 7/10/2012.

Filed Date: 5/10/12.

Accession Number: 20120510-5031.

Comments Due: 5 p.m. ET 5/31/12.

Docket Numbers: ER12-1756-000.

Applicants: Wisconsin Public Service Corporation.

Description: WPSC Filing to Update FERC Form 1 References in its Formula Rates to be effective 7/9/2012.

Filed Date: 5/10/12.

Accession Number: 20120510-5035.

Comments Due: 5 p.m. ET 5/31/12.

Docket Numbers: ER12-1757-000.

Applicants: International Transmission Company.

Description: Notice of Succession to be effective 7/12/2012.

Filed Date: 5/10/12.

Accession Number: 20120510-5068.

Comments Due: 5 p.m. ET 5/31/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2012.
Nathaniel J. Davis, Sr.,
Deputy Secretary.

[FR Doc. 2012-12150 Filed 5-18-12; 8:45 am]

BILLING CODE 6717-01-P